DEPARTMENT OF COMMERCE

Foreign-Trade Zones Board

(Docket 18-2007)

Foreign-Trade Zone 110 - Albuquerque, New Mexico, Application for Subzone, Louisiana Energy Services, L.P., (Gas Centrifuge Production Equipment), Lea County, New Mexico

An application has been submitted to the Foreign-Trade Zones Board (the Board) by the City of Albuquerque, grantee of FTZ 110, requesting special-purpose subzone status for the assembly and installation of gas centrifuge production equipment at the facility of Louisiana Energy Services, L.P. (LES), located in Lea County, New Mexico. The application was submitted pursuant to the provisions of the Foreign-Trade Zones Act, as amended (19 U.S.C. 81a-81u), and the regulations of the Board (15 CFR part 400). It was formally filed on April 20, 2007.

The LES facility (1,000 employees, 543 acres) is located at 275 Andrews Highway, in Lea County, New Mexico. The applicant is requesting authority for the assembly and installation of gas centrifuge production equipment for the enrichment of uranium during construction of the National Enrichment Facility. Components and materials sourced from abroad, representing some 99%% of all parts, include: cascade valve frames, pipe work modules, connecting pipes and gas centrifuge parts, all designed as parts of machinery and apparatuses for isometric separation (duty rate 2.6%%).

FTZ procedures would allow LES to defer duty on the parts of production equipment until they are incorporated into a finished gas centrifuge, tested and put into use. FTZ designation would further allow LES to utilize certain U.S. Customs and Border Protection procedures, such as weekly entry and direct delivery, resulting in increased efficiencies for its import shipments. The applicant is not requesting FTZ manufacturing authority for the enrichment of uranium, and enrichment activity would not occur in an activated FTZ area. The request indicates that the savings from FTZ procedures would help improve the facility's international competitiveness.

In accordance with the Board's regulations, a member of the FTZ staff has been designated examiner to investigate the application and report to the Board.

Public comment is invited from interested parties. Submissions (original and 3 copies) shall be addressed to the Board's Executive Secretary at the address below. The closing period for their receipt is June 29, 2007. Rebuttal comments in response to material submitted during the foregoing period may be submitted during the subsequent 15-day period to July 16, 2007.

A copy of the application and accompanying exhibits will be available for public inspection at each of the following locations:

U.S. Department of Commerce Export Assistance Center, 1100 St. Francis Drive, Santa Fe, NM 87504.

Office of the Executive Secretary, Foreign-Trade Zones Board, U.S. Department of Commerce, Room 2814B, 1401 Constitution Ave. NW, Washington, DC 20230.

For further information, contact Elizabeth Whiteman at Elizabeth_Whiteman@ita.doc.gov or (202) 482-0473.

Dated: April 20, 2007.
Andrew McGilvray,
Executive Secretary.

[FR Doc. E7-8205 Filed 4-27-07; 8:45 am]

BILLING CODE 3510-DS-S